DEPARTMENT OF ENERGY

Federal Energy Regulatory Commission

[Project No. 10309-001]

Darren K. Vaughn, Scott M. Fodor, Trust; Notice of Transfer of Exemption

1. By letter filed November 3, 2015, Darren K. Vaughn informed the Commission that the exemption from licensing for the Flying W Project No. 10309, originally issued July 21, 1987 ¹ has been transferred to Scott M. Fodor, Trust. The name of the project has been changed from Flying W to Scott M. Fodor, Trust. The project is located on an irrigation pipe near Emmett in Valley County, Idaho. The transfer of an exemption does not require Commission approval.

¹ 40 FERC ¶ 62,056 (1987), Order Granting Exemption from Licensing (Conduit).

2. Scott M. Fodor, Trust is now the exemptee of the Scott M. Fodor, Trust Project, No. 10309. All correspondence should be forwarded to: Scott M. Fodor, Trust, 10644 W. Coleman Road, Barryton, MI 49305.

Dated: November 10, 2015.
Nathaniel J. Davis, Sr.,
Deputy Secretary.

[FR Doc. 2015-29267 Filed 11-16-15; 8:45 am]

BILLING CODE 6717-01-P